DEPARTMENT OF AGRICULTURE

Agricultural Marketing Service

[Doc. No. AMS-LPS-14-0024]

Livestock, Poultry and Seed Program; Request for Revision of a Currently Approved Information Collection and To Merge the Collections of OMB 0581-0124 and 0581-0128

AGENCY: Agricultural Marketing Service, USDA.

ACTION: Notice and request for comments.

SUMMARY: In accordance with the Paperwork Reduction Act of 1995 (44 U.S.C. § 3501-20), this notice announces the Agricultural Marketing Service's (AMS) intention to request approval from the Office of Management and Budget, for revision of two previously approved collections by merging them into a single information collection. AMS recently merged the Livestock, Poultry and Seed Program's Poultry Grading Branch and Grading and Verification Division. Due to this organizational merger, AMS intends to combine the following collections, 0581-0128 “Regulations Governing the Voluntary Grading of Shell Eggs—7 CFR part 56” and 0581-0124 “7 CFR part 54 Meats, Prepared Meats, and Meat Products (Grading, Certification, and Standards) and 7 CFR part 62 Quality Systems Verification Program (QSVP).” These collections will be combined into a single collection retitled 0581-0128 “Regulations for Voluntary Grading, Certification, and Standards—7 CFR parts 54, 56, 62, and 70.”

DATES: Comments on this notice must be received by June 17, 2014 to be assured of consideration.

ADDRESSES: Interested persons are invited to submit comments concerning this information collection notice. Comments should be submitted online at www.regulations.gov or sent to Michelle Degenhart, Assistant to the Director, Quality Assessment Division, Livestock, Poultry and Seed Program, Agricultural Marketing Service, U.S. Department of Agriculture, 1400 Independence Ave. SW., Room 3942-S, Washington, DC 20250-0256, or by facsimile to (202) 690-2746. All comments should reference the Doc. No. (AMS-LPS-14-0024), the date, and the page number of this issue of the Federal Register. All comments received will be posted without change, including any personal information provided, online at http://www.regulations.gov and will be made available for public inspection at the above physical address during regular business hours.

FOR FURTHER INFORMATION CONTACT: Michelle Degenhart at the above physical address, or by email at Michelle.Degenhart@ams.usda.gov.

SUPPLEMENTARY INFORMATION: Title: Regulations for Voluntary Grading, Certification, and Standards—7 CFR parts 54, 56, 62, and 70.

OMB Number: 0581-0128.

Expiration Date of Approval: June 30, 2014.

Type of Request: Revision and merger of a currently approved information collection.

Abstract: The Agricultural Marketing Act of 1946 (AMA) (7 U.S.C. § 1621-1627) directs and authorizes the United States Department of Agriculture (USDA) to develop standards of quality, grades, grading programs, and certification services which facilitate marketing of agricultural products, assure consumers of quality products that are graded and identified under USDA programs. To provide programs and services, section 203(h) of the AMA (7 U.S.C. § 1622(h)) directs and authorizes the Secretary of Agriculture to inspect, certify, and identify the grade, class, quality, quantity, and condition of agricultural products under such rules and regulations as the Secretary may prescribe, including assessment and collection of fees for the cost of service. The Livestock, Poultry and Seed Program recently merged the Poultry Grading Branch and the Grading and Verification Division and became the Quality Assessment Division (QAD). The regulations in 7 CFR part 54, 56, and 70 provide a voluntary program for grading, certification and standards of shell eggs, poultry products, rabbit products, meats, prepared meats, and meat products. The regulation in 7 CFR part 62—Quality Systems Verification Program (QSVP) is a collection of voluntary, audit based, user-fee funded programs that allow applicants to have program documentation and program processes assessed by AMS auditor(s) and other USDA officials. QSVP is user-fee programs based on the approved hourly rate established under 7 CFR part 62. AMS also provides other types of voluntary services under these regulations, e.g., contract and specification acceptance services and verification of product, processing, further processing, temperature, and quantity. Because this is a voluntary program, respondents request or apply for the specific service they wish, and in doing so, they provide information. The information collected is used only by authorized representatives of the USDA (AMS, Livestock, Poultry and Seed Program's Quality Assessment Division national and field staff, which includes State agencies.) Examples of information collected includes, but not limited to: total received volume in pounds or cases, volume in pounds of graded, processed and reprocessed products, case volume of graded product, applicant's name, billing and facility address, commitment hours and requests for approval of commodity specifications or chemical compounds and is used to conduct services requested by respondents. The Agency is the primary user of the information. The information collection requirements in this request are essential to carry out the intent of the AMA, to provide the respondents the type of service they request, and to administer the program.

0581-0128: Regulations Governing the Voluntary Grading of Shell Eggs—7 CFR Part 56

Estimate of Burden: Public reporting burden for this collection of information is estimated to average .227 hours per response.

Respondents: Shell Egg industry or other for-profit businesses. State or local governments, businesses or other for profits, and small businesses or organizations.

Estimated Number of Respondents: 658 respondents.

Estimated Total Annual Responses: 23,145.5 responses.

Estimated Number of Responses per Respondent: 35.18 responses.

Estimated Total Annual Burden on Respondents: 5,254.20 hours.

0581-0124: 7 CFR Part 54 Meats, Prepared Meats, and Meat Products (Grading, Certification, and Standards) and 7 CFR Part 62 Quality Systems Verification Program (QSVP)

Estimate of Burden: Public reporting burden for this collection of information is estimated to average .22 hours per response.

Respondents: Livestock and meat industry or other for-profit businesses. State or local governments, businesses or other for profits, and small businesses or organizations.

Estimated Number of Respondents: 83 respondents.

Estimated Total Annual Responses: 5,998 responses.

Estimated Number of Responses per Respondent: 72.3 responses.

Estimated Total Annual Burden on Respondents: 1,330 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: April 15, 2014.
Rex A. Barnes,
Associate Administrator, Agricultural Marketing Service.

[FR Doc. 2014-08924 Filed 4-17-14; 8:45 am]

BILLING CODE 3410-02-P